DEPARTMENT OF VETERANS AFFAIRS

Advisory Committee on Prosthetics and Special-Disabilities Programs; Notice of Meeting

The Department of Veterans Affairs (VA) gives notice under the Federal Advisory Committee Act, 5 U.S.C. App. 2, that a meeting and site visit of the Federal Advisory Committee on Prosthetics and Special-Disabilities Programs will be held on November 4-5, 2014, in Room 2K-113-115 at the Hunter Holmes McGuire VA Medical Center, 1201 Broad Rock Boulevard, Richmond, VA 23249. The meeting will convene at 8:30 a.m. on both days, and will adjourn at 4:30 p.m. on November 4 and at 12 noon on November 5. Meetings are open to the public except when the Committee is touring medical facilities. The site visit will include several closed sessions, to protect patient privacy during tours of medical facilities. Closing portions of the sessions are in accordance with 5 U.S.C. 552b(c)(6).

The purpose of the Committee is to advise the Secretary of Veterans Affairs on VA's prosthetics programs designed to provide state-of-the-art prosthetics and the associated rehabilitation research, development, and evaluation of such technology. The Committee also provides advice to the Secretary on special-disabilities programs, which are defined as any program administered by the Secretary to serve Veterans with spinal cord injuries, blindness or visual impairments, loss of extremities or loss of function, deafness or hearing impairment, and other serious incapacities in terms of daily life functions.

On November 4, the Committee will convene an open session on VA's Polytrauma System of Care from 8:30-11:30 a.m. The Committee will convene closed sessions from 11:30 a.m.-4:30 p.m. as they tour the Polytrauma Center, Regional Amputee Center, Assistive Technology Lab, and Spinal Cord Injury Center. On November 5, the Committee will convene open sessions from 8:30-9:30 a.m. and 11:00 a.m.-12 noon. From 9:40-10:40 a.m. the Committee will convene a closed session as they tour the Vision Impairment services in Outpatient Rehabilitation (VISOR) Program.

No time will be allocated for receiving oral presentations from the public; however, members of the public may direct questions or submit written statements for review by the Committee in advance of the meeting to Mr. Larry N. Long, Designated Federal Officer, Veterans Health Administration, Patient Care Services, Rehabilitation and Prosthetic Services (10P4RR), VA, 810 Vermont Avenue NW., Washington, DC 20420, or by email at lonlar@va.gov. Because the meeting is being held in a government building, a photo I.D. must be presented at the Guard's Desk as a part of the clearance process. Therefore, you should allow an additional 15 minutes before the meeting begins. Any member of the public wishing to attend the meeting should contact Mr. Long at (202) 461-7354.

Dated: October 15, 2014.
Rebecca Schiller,
Committee Management Officer.

[FR Doc. 2014-24813 Filed 10-17-14; 8:45 am]

BILLING CODE 8320-01-P